DEPARTMENT OF HEALTH AND HUMAN SERVICES

Health Resources and Services Administration

Agency Information Collection Activities: Proposed Collection: Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Health Professions Student Loan (HPSL) Program and Nursing Student Loan (NSL) Program Administrative Requirements (Regulations and Policy) (OMB No. 0915-0047)—Extension

The regulations for the Health Professions Student Loan (HPSL) Program and Nursing Student Loan (NSL) Program contain a number of reporting and recordkeeping requirements for schools and loan applicants. The requirements are essential for assuring that borrowers are aware of rights and responsibilities, that schools know the history and status of each loan account, that schools pursue aggressive collection efforts to reduce default rates, and that they maintain adequate records for audit and assessment purposes. Schools are free to use improved information technology to manage the information required by the regulations.

The annualized estimates of burden are as follows:

Recordkeeping Requirements
Regulatory/section requirements | Number of recordkeepers | Hours per year | Total burden hours
HPSL Program:
57.206(b)(2), Documentation of Cost of Attendance | 432 | 1.17 | 505
57.208(a), Promissory Note | 432 | 1.25 | 540
57.210(b)(1)(i), Documentation of Entrance Interview | 432 | 1.25 | 540
57.210(b)(1)(ii), Documentation of Exit Interview | * 472 | 0.33 | 156
57.215(a)&(d), Program Records | * 472 | 10 | 4,720
57.215(b), Student Records | * 472 | 10 | 4,720
57.215(c), Repayment Records | * 472 | 18.75 | 8,850
HPSL Subtotal | 472 |  | 20,031
NSL Program:
57.306(b)(2)(ii), Documentation of Cost of Attendance | 300 | 0.3 | 90
57.308(a), Promissory Note | 300 | 0.5 | 150
57.310(b)(1)(i), Documentation of Entrance Interview | 300 | 0.5 | 150
57.310(b)(1)(ii), Documentation of Exit Interview | * 435 | 0.17 | 74
57.315(a)(1)&(a)(4), Program Records | * 435 | 5 | 2,175
57.315(a)(2), Student Records | * 435 | 1 | 435
57.315(a)(3), Repayment Records | * 435 | 2.51 | 1,092
NSL Subtotal | 435 |  | 4,166
* Includes active and closing schools.
HPSL data includes active and closing Loans for Disadvantaged Students (LDS) program schools.

Reporting Requirements
Regulatory/section requirements | Number of respondents | Responses per respondent | Total annual responses | Hours per response | Total hour burden
HPSL Program:
57.206(a)(2), Student Financial Aid Transcript | 4,600 | 1 | 4,670 | .25 | 1,150
57.208(c), Loan Information Disclosure | 432 | 68.73 | 29,692 | .0833 | 2,473
57.210(b)(1)(i), Entrance Interview | 432 | 68.73 | 29,692 | 0.167 | 4,959
57.210(b)(1)(ii), Exit Interview | * 472 | 12 | 5,664 | 0.5 | 2,832
57.210(b)(1)(iii), Notification of Repayment | * 472 | 30.83 | 14,552 | 0.167 | 2,430
57.210(b)(1)(iv), Notification During Deferment | * 472 | 24.32 | 11,479 | 0.0833 | 957
57.210(b)(1)(vi), Notification of Delinquent Accounts | * 472 | 10.28 | 4,853 | 0.167 | 811
57.210(b)(1)(x), Credit Bureau Notification | * 472 | 8.03 | 3,790 | 0.6 | 2,274
57.210(b)(4)(i), Write-off of Uncollectible Loans | 20 | 1.00 | 20 | 3.0 | 60
57.211(a) Disability Cancellation | 10 | 1 | 10 | .75 | 8
57.215(a)(2), Administrative Hearings | 0 | 0 | 0 | 0 | 0
57.215(a)(d), Administrative Hearings | 0 | 0 | 0 | 0 | 0
HPSL Subtotal | 7,854 |  | 104,352 |  | 17,954
NSL Program:
57.306(a)(2), Student Financial Aid Transcript | 4,100 | 1 | 4,100 | 0.25 | 1,025
57.310(b)(1)(i), Entrance Interview | 300 | 23.51 | 7,053 | 0.167 | 1,178
57.310(b)(1)(ii), Exit Interview | * 435 | 3.77 | 1,640 | 0.5 | 820
57.301(b)(1)(iii), Notification of Repayment | * 435 | 6.18 | 2,688 | 0.167 | 449
57.310(b)(1)(iv), Notification During Deferment | * 435 | 0.65 | 283 | 0.083 | 24
57.310(b)(1)(vi), Notification of Delinquent Accounts | * 435 | 4.61 | 2,006 | 0.167 | 335
57.310(b)(1)(x), Credit Bureau Notification | * 435 | 8.3 | 3,611 | 0.6 | 2,167
57.310(b)(4)(i), Write-off of Uncollectible Loans | 20 | 1.0 | 20 | 3.5 | 70
57.311(a), Disability Cancellation | 10 | 1.0 | 10 | 0.8 | 8
57.315(a)(1)(ii), Administrative Hearings | 0 | 0 | 0 | 0 | 0
57.316(a)(d), Administrative Hearings | 0 | 0 | 0 | 0 | 0
NSL Subtotal | 6,605 |  | 21,411 |  | 6,076
* Includes active and closing schools.

Written comments and recommendations concerning the proposed information collection should be sent within 30 days of this notice to the desk officer for HRSA, either by e-mail to OIRA_submission@omb.eop.gov or by fax to 202-395-6974. Please direct all correspondence to the attention of the desk officer for HRSA.

Dated: October 3, 2008.
Alexandra Huttinger,
Director, Division of Policy Review and Coordination.

[FR Doc. E8-23912 Filed 10-8-08; 8:45 am]

BILLING CODE 4165-15-P